FEDERAL ACCOUNTING STANDARDS ADVISORY BOARD

Notice of Issuance of Technical Releases 8 and 9 and Appointment of New Board Members

Board Action: Pursuant to the Federal Advisory Committee Act (Pub. L. No. 92-463), as amended, and the FASAB Rules of Procedure, as amended in April, 2004, notice is hereby given that the Federal Accounting Standards Advisory Board has issued Technical Release 8, Clarification of Standard Relating to Inter-Entity Costs, and Technical Release 9, Implementation Guide for Statement of FASAB 29: Heritage Assets and Stewardship Land.

The purpose of Technical Release (TR) 8 is to provide guidance to federal entities on three aspects of full costing specified in SFFAS 4. The purpose of Technical Release (TR) 9 is to assist federal entities in reporting information on heritage assets (HA) and stewardship land (SL) in accordance with SFFAS 29.

The Technical Releases are available on the FASAB Web site at http://www.fasab.gov or by calling 202-512-7350.

The Federal Accounting Standards Advisory Board also announces the appointment to the Board of Mr. Norwood Jackson, effective February 2007, and Mr. Harold I. Steinberg, effective July 1, 2007.

For Further Information Contact: Wendy Payne, Executive Director, 441 G St., NW., Mail Stop 6K17V, Washington, DC 20548, or call (202) 512-7350.

Authority: Federal Advisory Committee Act. Pub. L. No. 92-463.

Dated: February 28, 2008.
Charles Jackson,
Federal Register Liaison Officer.

[FR Doc. 08-934 Filed 3-4-08; 8:45 am]

BILLING CODE 1610-01-M